DEPARTMENT OF EDUCATION

[CFDA No. 84.184E]

Office of Safe and Drug-Free Schools—Emergency Response and Crisis Management Grant Program; Notice Inviting Applications for New Awards for Fiscal Year (FY) 2003

Purpose: The Emergency Response and Crisis Management Program provides grants to local educational agencies (LEAs) to improve and strengthen emergency response and crisis management plans, including training school personnel, students, and parents in emergency response procedures and coordinating with local law enforcement, public safety, health, and mental health agencies.

Eligible Applicants: LEAs with a significant need for emergency preparedness improvements and a lack of fiscal capacity to implement these improvements.

Applications Available: May 16, 2003.

Deadline for Transmittal of Applications: June 30, 2003.

Deadline for Intergovernmental Review: August 29, 2003.

Estimated Available Funds: $38 million.

Estimated Range of Awards: $100,000-$500,000.

Estimated Average Size of Awards: We estimate that: A small school district (with 1-20 school facilities) will need up to $100,000 for the 18-month period; a medium-size school district (with between 21 and 75 school facilities) will need a maximum of $250,000 for the 18-month period; and a large-size school district (with 76 or more school facilities) will need a maximum of $500,000 for the 18-month period. Applicants requesting funds in excess of the recommended amounts will need to justify their need for those funds.

Estimated Number of Awards: 150.

Note: The Department is not bound by any estimate in this notice.

Project Period: Up to 18 months.

Applicable Regulations: (a) The Education Department General Administrative Regulations in 34 CFR parts 75, 77, 79, 80, 81, 82, 85, 97, 98, and 99. (b) The regulations in 34 CFR part 299.

General: Contingent upon the availability of funds, we may make additional awards in FY 2004 from the rank-ordered list of unfunded applications from this competition.

Participation by Private-School Children and Teachers: LEAs that receive a grant are required to provide for the equitable participation of eligible private-school children and their teachers or other educational personnel. In order to ensure that grant program activities address the needs of private-school children, timely and meaningful consultation with appropriate private school officials must occur during the design and development of the program. Administrative direction and control over grant funds must remain with the grantee.

Maintenance of Effort: LEAs may receive a grant only if the State educational agency finds that the combined fiscal effort per student or the aggregate expenditures of the agency and the State with respect to the provision of free public education by the agency for the preceding fiscal year was not less than 90 percent of the combined effort or aggregate expenditures for the second preceding fiscal year.

Absolute Priority: We give an absolute preference to applications that meet the following priority, and fund under this competition only those applications that meet the following absolute priority: LEA projects to improve and strengthen emergency response and crisis management plans, including training school personnel, students and parents in emergency response procedures and coordinating with local law enforcement, public safety, health, and mental health agencies.

To be considered for a grant award, applications must include an agreement that details the participation of the LEA and the following five community-based partners from the local area: Law enforcement, public safety, health, mental health, and the head of your local government (for example your mayor, city manager, or county executive). The agreement must detail the roles and responsibilities each of the required partners will have in improving and strengthening the plan. The agreement must also reflect each partner's agreement to receive a final copy of the plan. Finally, your agreement must include an authorized signature representing the LEA and each community-based partner.

If one or more of these five partners is not present in your community, or cannot feasibly participate, the agreement must explain the absence of each missing partner. Every application must include signatures representing at least the LEA and two of the required five partners, and explanations for the absence any of the remaining required partners.

Applications that fail to include the required agreement (with signatures and explanations for missing signatures as specified) will not be read.

Although this program requires partnerships with other parties, administrative direction and fiscal control for the project must remain with the local educational agency.

Selection Criteria: We use the following selection criteria to evaluate applications for new grants under this competition. The maximum score for all of these criteria is 100 points. The maximum score for each criterion or factor under that criterion is indicated in parentheses.

(1) Need for project. (25 points)

In determining the need for the proposed project, the following factors are considered:

(a) The magnitude of the need for the services to be provided or the activities to be carried out by the proposed project (15 points).

Note: Under this factor we will look for a clear and convincing demonstration of significant need—such as a recent vulnerability and needs assessment—to improve and strengthen the LEA's emergency response and crisis management plan, as well as how the proposed plan will address need.

(b) The extent to which specific gaps and weaknesses in services, infrastructure, or opportunities have been identified and will be addressed by the proposed project, including the nature and magnitude of those gaps or weaknesses (10 points).

Note: Under this factor we will look at the extent to which the applicant demonstrates a lack of fiscal capacity to implement needed improvements to its emergency response/crisis management plan.

(2) Significance. (25 points)

In determining the significance of the proposed project, the following factors are considered:

(a) The likelihood that the proposed project will result in system change and improvement (10 points).

(b) The extent to which the proposed project is likely to build local capacity to provide, improve, or expand services that address the needs of the target population (15 points).

Note: Under the Significance criterion, we will look for the applicant's identification of the vulnerabilities to which its school facilities may be exposed and its comprehensive approach to addressing those vulnerabilities in the proposed emergency response/crisis management plan. We expect that applicants will propose comprehensive approaches that do not rely solely on equipment and technology purchases, and address the four phases of crisis planning—mitigation/prevention, preparedness, response and recovery.

(3) Quality of the project design. (35 points)

In determining the quality of the design of the proposed project, the following factors are considered:

(a) The extent to which the proposed project is designed to build capacity and yield results that will extend beyond the period of Federal financial assistance (10 points).

Note: Under this factor we will look for the applicant's intent to develop a plan that will respond to emerging potential crises and is practiced, updated, and revised frequently.

(b) The extent to which the design of the proposed project reflects up-to-date knowledge from research and effective practice (20 points).

Note: Under this factor we will look for the applicant's inclusion of the four phases (mitigation/prevention, preparedness, response, and recovery) in “Practical Information on Crisis Planning: A Guide for Schools and Communities” (available online at http://www.ed.gov/emergencyplan) and a clear description of how the proposed project will address those four phases.

(c) The extent to which the proposed project encourages parental involvement. (5 points)

(4) Quality of the project evaluation. (5 points)

In determining the quality of the evaluation, the following factor is considered:

(a) The extent to which the methods of evaluation include the use of objective performance measures that are clearly related to the intended outcomes of the project and will produce quantitative and qualitative data to the extent possible. (5 points)

(5) Quality of the management plan. (10 points)

In determining the quality of the management plan, the following factor is considered:

(a) How the applicant will ensure that a diversity of perspectives are brought to bear in the operation of the proposed project, including those of parents, teachers, the business community, a variety of disciplinary and professional fields, recipients or beneficiaries of services, or others, as appropriate. (10 points)

Note: Under this criterion we will look at the quality of the applicant's planned coordination and collaboration with the head of the local government, and community-based law enforcement, public safety, health, and mental health agencies in the strengthening and improvement of the plan. This description should go beyond simply the roles and responsibilities discussed in the absolute priority.

Waiver of Proposed Rulemaking: Under the Administrative Procedure Act (5 U.S.C. 553), the Secretary generally offers interested parties the opportunity to comment on proposed rules. Section 437(d)(1) of the General Education Provisions Act, however, exempts from this requirement rules that apply to the first competition under a new or substantially revised program authority. This is the first competition under the Emergency Response and Crisis Management Grant Program. These rules will apply to the FY 2003 grant competition only.

For Applications Contact: Education Publications Center (ED Pubs), P.O. Box 1398, Jessup, MD 20794-1398. Telephone (toll free): 1-877-433-7827. Fax: (301) 470-1244. If you use a telecommunications device for the deaf, you may call 1-877-576-7734. You may also contact ED Pubs at its Web site: http://www.ed.gov/pubs/edpubs/html.

Or you may contact ED Pubs at its e-mail address: edpubs@inet.ed.gov.

If you request an application from ED Pubs, be sure to identify this competition as follows: CFDA No. 84.184.E. Individuals with disabilities may obtain this document in an alternative format (e.g., Braille, large print, audiotape, or computer diskette) on request to the contact person listed below.

Pilot Project for Electronic Submission of Applications: In FY 2003, the U.S. Department of Education is continuing to expand its pilot project for electronic submission of applications to include additional formula grant programs and additional discretionary grant competitions. The Emergency Response and Crisis Management Grant Program (CFDA #84.184.E) is one of the programs included in the pilot project. If you are an applicant under this grant program, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the Emergency Response and Crisis Management Grant Program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date.

The Department must acknowledge and confirm these periods of unavailability before granting you an extension. To request this extension you must contact either (1) the person listed elsewhere in this notice under FOR FURTHER INFORMATION CONTACT or (2) the e-GRANTS help desk at 1-888-336-8930.

You may access the electronic grant application for the Emergency Response and Crisis Management Grant Program at: http://e-grants.ed.gov. We have included additional information about the e-Application pilot project (see Parity Guidelines between Paper and Electronic Applications) in the application package. If you want to apply for a grant and be considered for funding, you must meet the deadline requirements included in this notice.

FOR FURTHER INFORMATION CONTACT: Connie Ann Deshpande or Jennifer Medearis, U.S. Department of Education, 400 Maryland Avenue, SW., Room 3E332, Washington, DC 20202-6450. Connie Deshpande: Telephone: (202) 401-2140; email address: Connie.Deshpande@ed.gov; Jennifer Medearis: Telephone: (202) 260-5571; email address: Jennifer.Medearis@ed.gov. If you use a telecommunications device for the deaf (TDD), you may call the Federal Information Relay Service (FIRS) at 1-888-877-8339.

Electronic Access to This Document

You may view this document, as well as all other Department of Education documents published in the Federal Register, in text or Adobe Portable Document Format (PDF) on the Internet at the following site: http://www.ed.gov/legislation/FedRegister.

To use PDF, you must have Adobe Acrobat Reader, which is available free at this site. If you have questions about using PDF, call the U.S. Government Printing Office (GPO) toll free at 1-888-293-6498; or in the Washington, DC area at (202) 512-1530.

Note: The official version of this document is the document published in the Federal Register. Free Internet access to the official edition of the Federal Register and the Code of Federal Regulations is available on GPO Access at: http://www.access.gpo.gov/nara/index.html

(Catalog of Federal Domestic Assistance Number 84.184.E, Safe and Drug-Free Schools and Community Act National Programs—Emergency Response and Crisis Management Grant Program)

Program Authority: 20 U.S.C. 7131.

Dated: May 13, 2003.
Judge Eric Andell,
Deputy Under Secretary for Safe and Drug-Free Schools.

[FR Doc. 03-12394 Filed 5-15-03; 8:45 am]

BILLING CODE 4000-01-P